DEPARTMENT OF TRANSPORTATION

Federal Transit Administration

Limitation on Claims Against Proposed Public Transportation Projects—Ontario International Airport Connector Project and Draw One Bridge Replacement Project

AGENCY: Federal Transit Administration (FTA), Department of Transportation (DOT).

ACTION: Notice.

SUMMARY: This notice announces final environmental actions taken by the Federal Transit Administration (FTA) regarding two projects: the Ontario International Airport Connector Project, Cities of Rancho Cucamonga and Ontario, San Bernardino County, California; and the Draw One Bridge Replacement Project in Boston, Suffolk County and Cambridge, Middlesex County, Massachusetts. The purpose of this notice is to publicly announce FTA's environmental decisions on the subject projects, and to activate the limitation on any claims that may challenge these final environmental actions.

DATES: A claim seeking judicial review of FTA actions announced herein for the listed public transportation projects will be barred unless the claim is filed on or before October 6, 2025.

FOR FURTHER INFORMATION CONTACT: Kathryn Loster, Assistant Chief Counsel, Office of Chief Counsel, (202) 360-2322, or Saadat Khan, Environmental Protection Specialist, Office of Environmental Policy and Programs, (202) 366-9647. FTA is located at 1200 New Jersey Avenue SE, Washington, DC 20590. Office hours are from 9 a.m. to 5 p.m., Monday through Friday, except Federal holidays.

SUPPLEMENTARY INFORMATION: Notice is hereby given that FTA has taken final agency actions subject to 23 U.S.C. 139(l) by issuing certain approvals for the public transportation projects listed below. The actions on the projects, as well as the laws under which such actions were taken, are described in the documentation issued in connection with the project to comply with the National Environmental Policy Act (NEPA), and in other documents in the FTA environmental project files for the projects. Interested parties may contact either the project sponsor or the relevant FTA Regional Office for more information. Contact information for FTA's Regional Offices may be found at https://www.transit.dot.gov.

This notice applies to all FTA decisions on the listed projects as of the issuance date of this notice and all laws under which such actions were taken, including, but not limited to, NEPA (42 U.S.C. 4321-4375), Section 4(f) requirements (49 U.S.C. 303), Section 106 of the National Historic Preservation Act (54 U.S.C. 306108), Endangered Species Act (16 U.S.C. 1531), Magnuson-Stevens Fishery Conservation and Management Act of 1976 (16 U.S.C. 1801 et seq.), Clean Water Act (33 U.S.C. 1251), and the Clean Air Act (42 U.S.C. 7401-7671q). This notice does not, however, alter or extend the limitation period for challenges of project decisions subject to previous notices published in the Federal Register. The projects actions that are the subject of this notice follow:

1. Project name and location: Ontario International Airport (ONT) Connector Project (CA Project), Cities of Rancho Cucamonga and Ontario, San Bernardino County, California.

Project Sponsor: San Bernardino County Transportation Authority (SBCTA).

Project description: The CA Project would construct a 4.2-mile-long transit service tunnel directly connecting the Southern California Regional Rail Authority Cucamonga Metrolink Station in the City of Rancho Cucamonga with ONT in the City of Ontario. The CA Project would provide a direct airport connection from Cucamonga Metrolink Station to support ONT's projected growth. Transit facilities would be constructed, including stations to serve Cucamonga Metrolink Station, ONT Terminals 2 and 4; a maintenance and storage facility to store and maintain vehicles; and an emergency access and ventilation shaft to provide a means of emergency passenger egress and first responder access.

Final agency action: Section 106 No Historic Properties Affected determination, dated December 2, 2024; and Finding of No Significant Impact (FONSI), dated April 10, 2025.

Supporting documentation: The ONT Connector Project Environmental Assessment (EA), dated October 18, 2024. The FONSI, EA and associated documents can be viewed and downloaded from: https://www.gosbcta.com/ontconnector/#ont-docs.

2. Project name and location: Draw One Bridge Replacement Project (MA Project), Boston, Suffolk County, and Cambridge, Middlesex County, Massachusetts.

Project Sponsor: Massachusetts Bay Transportation Authority (MBTA).

Project description: The MA Project would involve the replacement of the Draw One Bridge, which carries Amtrak passenger and MBTA commuter rail traffic over the Charles River in the cities of Boston and Cambridge, Massachusetts. The existing two two-track bascule bridge spans would be replaced with three two-track, standalone vertical lift bridge structures within the footprint of the existing bridges. The new bridge structures would carry six tracks, rather than the four on the current crossings. The MA Project would also replace the Boston and Main Railroad (B&MRR) Signal Tower A and modify the Massachusetts Department of Conservation and Recreation-owned North Bank Bridge, which crosses the MBTA right-of-way north of the Draw One Bridge. The MA Project work would also include replacing the existing signal system and switch heaters associated with the Draw One Bridge, and installing a new drainage system.

Final agency action: Section 106 Memorandum of Agreement, dated December 18, 2024; Section 4(f) de minimis, dated January 8, 2025; Draw One Bridge Replacement Project Finding of No Significant Impact (FONSI), dated January 16, 2025.

Supporting documentation: Draw One Bridge Replacement Project, Final Environmental Assessment (Final EA), dated January 16, 2025. The FONSI, EA and supporting documents can be viewed and downloaded from: https://www.mbta.com/projects/north-station-drawbridge-replacement.

Authority: 23 U.S.C. 139(l)(1).

Megan Blum,
Deputy Associate Administrator for Planning and Environment.

[FR Doc. 2025-07931 Filed 5-6-25; 8:45 am]

BILLING CODE 4910-57-P